DEPARTMENT OF THE INTERIOR

Bureau of Land Management

[LLWY930000-L51100000-GN0000-LVEMK10CW370; WYW140590]

Notice of Correction to Notice of Intent To Prepare an Environmental Impact Statement for the Gas Hills Uranium Project, Fremont and Natrona Counties, WY

AGENCY: Bureau of Land Management, Interior.

ACTION: Notice of correction.

SUMMARY: On September 7, 2010, the Bureau of Land Management published a Notice of Intent to Prepare an Environmental Impact Statement for the Gas Hills Uranium Project, Fremont and Natrona Counties, Wyoming (75 FR 54384). The notice inadvertently contained an incorrect legal land description. The correct legal land description for the Gas Hills Uranium Project location is as follows:

Sixth Principal Meridian, Wyoming

T. 32 N., R. 89 and 90 W.

T. 33 N., R. 89 and 90 W.

FOR FURTHER INFORMATION CONTACT: Kristin Yannone, Project Leader, at 307-332-8448.

Donald A. Simpson,
State Director.

[FR Doc. 2010-27801 Filed 11-3-10; 8:45 am]

BILLING CODE 4310-22-P